DEPARTMENT OF HEALTH AND HUMAN SERVICES

Centers for Disease Control and Prevention

Notice of Award of a Single-Source Cooperative Agreement To Fund Burkina Faso Ministry of Health

AGENCY: Centers for Disease Control and Prevention (CDC), Department of Health and Human Services (HHS).

ACTION: Notice.

SUMMARY: The Centers for Disease Control and Prevention (CDC), located within the Department of Health and Human Services (HHS), announces the award of approximately $450,000 for Year 1 of funding to the Burkina Faso Ministry of Health. to build laboratory and SI capacity to improve the provision of HIV testing, treatment, retention in line with HIV epidemic control and 95-95-95 targets (95% of HIV-positive individuals knowing their status, 95% of those receiving ART [Antiretroviral therapy], and 95% of those achieving viral suppression). Funding amounts for years 2-5 will be set at continuation.

DATES: The period for this award will be September 30, 2022, through September 29, 2027.

FOR FURTHER INFORMATION CONTACT: Trong Ao, Center for Global Health, Centers for Disease Control and Prevention, CDC Ghana Office, U.S. Embassy, 24 Fourth Circular Road, Cantonments, Accra Ghana, Telephone: 800-232-6348, Email: tfa8@cdc.gov.

SUPPLEMENTARY INFORMATION: The single-source award will support the Burkina Faso Ministry of Health to implement HIV strategic information and laboratory strengthening activities in Burkina Faso. The National HIV/AIDS control program is one of the specialized programs within the Ministry of Health. The Burkina Faso Ministry of Health is in a unique position to conduct this work, as it functions under the Directorate of Disease Prevention and control of the Ministry and is the mandated institution to provide HIV treatment clinical services and guidelines in Burkina Faso.

Summary of the Award

Recipient: Burkina Faso Ministry of Health.

Purpose of the Award: The purpose of this award is to build laboratory and SI capacity to improve the provision of HIV testing, treatment, retention in line with HIV epidemic control and 95-95-95 targets. This award strives to build and strengthen laboratories that are equipped with the appropriate diagnostic technologies, trained and skilled staff, and systems that can provide efficient services. It will also strengthen SI systems, data quality assurance, and staff capacity responsible for managing facility-based, survey and surveillance data operating at national and subnational levels.

Amount of Award: The approximate year 1 funding amount will be $450,000 in Federal Fiscal Year (FYY) 2022 funds, subject to the availability of funds. Funding amounts for years 2-5 will be set at continuation.

Authority: This program is authorized under Public Law 108-25 (the United States Leadership Against HIV AIDS, Tuberculosis and Malaria Act of 2003).

Period of Performance: September 30, 2022, through September 29, 2027.

Dated: March 2, 2022.
Terrance Perry,
Chief Grants Management Officer, Centers for Disease Control and Prevention.

[FR Doc. 2022-04814 Filed 3-7-22; 8:45 am]

BILLING CODE 4163-18-P